SECURITIES AND EXCHANGE COMMISSION

Sunshine Act Meeting Notice

Federal Register Citation of Previous Announcement: [71 FR 11249, March 6, 2006].

Status: Closed Meeting.

Place: 100 F Street, NW., Washington, DC.

Date and Time of Previously Announced Meeting: Thursday, March 9, 2006 at 2 p.m.

Change in the Meeting: Deletion of Item.

The following item will not be considered during the Closed Meeting on March 9, 2006: Consideration of amicus participation.

The Commission determined that no earlier notice thereof was possible.

At times, changes in Commission priorities require alterations in the scheduling of meeting items. For further information and to ascertain what, if any, matters have been added, deleted or postponed, please contact the Office of the Secretary at (202) 551-5400.

Dated: March 9, 2006.
J. Lynn Taylor,
Assistant Secretary.

[FR Doc. 06-2457 Filed 3-9-06; 3:54 pm]

BILLING CODE 8010-01-P